SMALL BUSINESS ADMINISTRATION

13 CFR Ch. I

Semiannual Regulatory Agenda; Correction

AGENCY: U.S. Small Business Administration (SBA).

ACTION: Semiannual Regulatory Agenda; correction.

SUMMARY: This document contains a correction to the Semiannual Regulatory Agenda which was published in the Federal Register on Thursday, January 8, 2013 (78 FR 1636). The regulatory agenda is a semiannual summary of all current and projected rulemakings, existing regulations, and completed actions of the SBA.

DATES: Effective on January 8, 2013.

FOR FURTHER INFORMATION CONTACT: Mariana A. Pardo, Director, Government Contracting and Business Development, HUBZone Program, at (202) 205-2985, or mariana.pardo@sba.gov.

SUPPLEMENTARY INFORMATION: The Semiannual Regulatory Agenda provides the public with information about SBA's regulatory activity. SBA invites the public to submit comments on any aspect of this Agenda. SBA expects that providing early information about pending regulatory activities would encourage more effective public participation in the process. As published, the Semiannual Regulatory Agenda contains a sentence which was incorrect. The sentence is revised to avoid public confusion.

In Semiannual Regulatory Agenda Federal Register Document 2012-31507 published on January 8, 2013, (78 FR 1636) make the following correction: On page 1638, in the third column, in section 388 Small Business HUBZone Program, remove the third sentence, “These planned amendments will serve to streamline the HUBZone program and ease program eligibility requirements, particularly those that the small business concerns perceive to be burdensome.” and add a new third sentence to read as follows: “The amendments will make it easier for participants to comply with the program requirements and enable them to maximize the benefits afforded by participation.”

Dated: February 12, 2013.
Mariana A. Pardo,
Director, Office of HUBZone.

[FR Doc. 2013-03766 Filed 2-15-13; 8:45 am]

BILLING CODE 8025-01-P